DEPARTMENT OF COMMERCE

15 CFR Part 28

[Docket ID 260107-0013]

RIN 0605-AA73

Removing Redundant, Obsolete, and Inefficient Provisions From the Regulations Governing Restrictions on Lobbying

AGENCY: Office of the Secretary of Commerce, Department of Commerce.

ACTION: Proposed rule; request for comments.

SUMMARY: The Department of Commerce (“Commerce”) is proposing to amend its regulations governing restrictions on lobbying. Specifically, Commerce is proposing to remove two redundant and unnecessary compliance provisions and remove two reporting requirements that are obsolete and unwarranted. This action is necessary to reduce regulatory complexity and streamline the regulations governing restrictions on lobbying. The intended effects of this action are to eliminate redundancy, promote administrative efficiency, and update Commerce's lobbying regulations to properly reflect and implement the underlying statutory authority in its current form.

DATES: Comments must be received on or before February 17, 2026.

ADDRESSES: Comments must be submitted via the Federal eRulemaking Portal at https://www.regulations.gov, Document ID: DOC-2026-0001. However, if you require an accommodation or cannot otherwise submit your comments via https://www.regulations.gov, please contact the program contact person listed under FOR FURTHER INFORMATION CONTACT. Comments that are not submitted via https://www.regulations.gov will not be accepted absent such a request. Commerce will not accept comments submitted after the comment period closes. To ensure that Commerce does not receive duplicate copies, please submit your comments only once. Additionally, please include the Docket ID DOC-2026-0001 at the top of your comments.

Federal eRulemaking Portal: Please go to https://www.regulations.gov to submit your comments electronically. Information on using https://www.regulations.gov, including instructions for finding a rule on the site and submitting comments, is available on the site under “FAQ.”

Note: Commerce's policy is generally to make comments received from members of the public available for public viewing on the Federal eRulemaking Portal at https://www.regulations.gov. Therefore, commenters should include in their comments only information that they wish to make publicly available.

FOR FURTHER INFORMATION CONTACT: Daniel Sweeney, Senior Counsel, Office of the General Counsel, at (202) 482-1395.

SUPPLEMENTARY INFORMATION:

I. Background

Commerce is proposing to amend its regulations at 15 CFR part 28, “New Restrictions on Lobbying.” These regulations implement section 319 of Public Law 101-121 (31 U.S.C. 1352), which established government-wide restrictions on the use of appropriated funds for lobbying activities in connection with federal contracts, grants, loans, and cooperative agreements. The primary purpose of this part is to ensure transparency and accountability by requiring certification and disclosure of lobbying activities intended to influence federal executive or legislative branch officials regarding such federal awards.

Commerce, along with numerous other executive branch agencies, originally established these regulations through a government-wide interim final rule published on February 26, 1990 (55 FR 6735, 6748). This rule was developed to create uniform practices across the federal government and was based on interim final guidance issued by the Office of Management and Budget (“OMB”). The rule was issued in interim final form to meet a statutory deadline for implementation, and it provided a public comment period for interested parties to provide feedback before a final rule was issued.

Commerce is now proposing to amend the regulations located in Subpart D (“Penalty and Enforcement”) and Subpart F (“Agency Reports”) of 15 CFR part 28.

Subpart D describes the mechanisms for ensuring compliance with Part 28. Section 28.400, titled “Penalties,” sets forth various penalties, ranging from $10,000 to $100,000, for violations of Part 28. Section 28.405, titled “Penalty procedures,” states that agencies shall impose and collect civil penalties for violations of Part 28 pursuant to the provisions of the Program Fraud and Civil Remedies Act, insofar as those provisions are not inconsistent with the requirements of Part 28. Section 28.410, titled “Enforcement,” states that the head of each agency shall take such actions as are necessary to ensure that the provisions of Part 28 are vigorously implemented and enforced by that agency.

Subpart F pertains to agency reporting requirements. Section 28.600, titled “Semi-annual compilation,” mandates that on May 31 and November 30 of each year, the agency must submit a report to the Secretary of the Senate and the Clerk of the House of Representatives containing a compilation of the information from disclosure reports received during the preceding six-month period. It also specifies that these compilations are to generally be made available for public inspection. Section 28.605, titled “Inspector General report,” requires Commerce's Inspector General, or a comparable official, to prepare and submit an annual report to Congress. That report must provide an evaluation of the agency's compliance with, and the effectiveness of, the lobbying restriction requirements, and it is required to be submitted at the same time as the agency's annual budget justifications to Congress.

Following a review of Part 28 and the underlying statutory authority, Commerce has preliminarily determined that §§ 28.405, 28.410, 28.600, and 28.605 are appropriate for removal for the reasons discussed below. Commerce invites comment on the proposed amendments.

II. Discussion

Commerce is proposing to amend 15 CFR part 28 by (1) removing from Subpart D §§ 28.405 and 28.410, both of which merely restate the text of the underlying statute; and (2) removing Subpart F in its entirety, because neither of its two sections is required by statute or otherwise warranted. The removal of these regulations would reduce regulatory complexity without diminishing any substantive obligation currently required by statute.

Proposed Elimination of Regulations That Restate Statutory Text

Commerce is proposing to remove §§ 28.405 and 28.410 from Subpart D. Both of these sections restate underlying statutory text and do not provide any new detail or elaboration necessary to implement the statutory text.

Section 28.405 states that “[a]gencies shall impose and collect civil penalties pursuant to the provisions of the Program Fraud and Civil Remedies Act, 31 U.S.C. 3803 (except subsection (c)), 3804, 3805, 3806, 3807, 3808, and 3812, insofar as these provisions are not inconsistent with the requirements herein.” This is a restatement of 31 U.S.C. 1352(c)(3), which provides that “[s]ections 3803 (except for subsection (c)), 3804, 3805, 3806, 3807, 3808, and 3812 of this title shall be applied, consistent with the requirements of this section, to the imposition and collection of civil penalties under this subsection.”

Section 28.410 states that “[t]he head of each agency shall take such actions as are necessary to ensure that the provisions herein are vigorously implemented and enforced in that agency.” This is a restatement of 31 U.S.C. 1352(f), which provides that “[t]he head of each Federal agency shall take such actions as are necessary to ensure that the provisions of this section are vigorously implemented and enforced in such agency.”

As these comparisons show, §§ 28.405 and 28.410 both restate underlying statutory provisions almost verbatim. Accordingly, §§ 28.405 and 28.410 do not provide any new detail or elaboration necessary to implement the underlying statutory authority. It is Commerce's policy to eliminate such regulations in order to reduce clutter in the Code of Federal Regulations and encourage the public to directly consult the applicable statutory text. This approach minimizes the risk of confusion and promotes administrative efficiency. Commerce has preliminarily determined that the benefits from removing §§ 28.405 and 28.410 would outweigh any associated costs. Commerce is therefore proposing to amend Subpart D by removing §§ 28.405 and 28.410.

Proposed Elimination of Obsolete and Unwarranted Congressional Reporting Requirements

Commerce is also proposing to remove Subpart F, which consists of §§ 28.600 and 28.605. These sections describe reporting requirements that are no longer statutorily required or otherwise warranted.

Section 28.600 requires the agency to collect lobbying disclosure reports and submit a semi-annual compilation of this information to the Secretary of the Senate and the Clerk of the House of Representatives. However, the underlying statutory authority for this report, formerly located in 31 U.S.C. 1352, was removed by the Lobbying Disclosure Act of 1995 (Pub. L. 104-65) (“LDA”). Nor is there sufficient policy rationale to retain the regulation in the face of congressional action. This regulation, established in 1990, reflects an outdated approach to lobbying transparency. The LDA established a comprehensive, publicly accessible, and government-wide database for the registration and reporting of lobbying activities. This centralized system, managed by Congress, provides a more efficient and effective mechanism for public transparency than the fragmented, agency-by-agency compilations mandated by the regulation. Continuing to produce a separate, semi-annual report is duplicative and constitutes an inefficient use of agency resources. Therefore, removing this regulation would align Commerce's regulations with current law and eliminate an obsolete and inefficient administrative task.

Section 28.605 mandates that Commerce's Inspector General submit a separate annual report to Congress evaluating the agency's compliance with lobbying restrictions. The specific statutory mandate for this report, also formerly in 31 U.S.C. 1352, was repealed by Congress through Public Law 104-65 and Public Law 104-66. Moreover, this requirement is duplicative of the Inspector General's pre-existing, broader oversight and reporting responsibilities. The Inspector General Act of 1978 provides a robust framework for agency oversight, including a requirement for semi-annual reports to Congress on significant problems, abuses, and deficiencies relating to the agency's programs and operations. Any material non-compliance with lobbying regulations would be addressed within this comprehensive reporting structure. Mandating a separate, stand-alone report on this single issue is an inefficient use of oversight resources and creates an unnecessary administrative burden. Eliminating this regulation would streamline reporting requirements and allow the Inspector General to allocate resources based on risk, consistent with the broader statutory framework for its mission. Accordingly, Commerce has preliminarily determined that the benefits from eliminating Subpart F would outweigh any associated costs. Commerce is therefore proposing to remove Subpart F in its entirety.

Commerce invites comments on its preliminary assessment that §§ 28.405, 28.410, 28.600, and 28.605 are appropriate for removal.

III. Classification

Executive Order 12866

This proposed rule has been determined to be not significant for the purposes of Executive Order 12866.

Executive Order 14192

This proposed rule is expected to be an Executive Order 14192 deregulatory action.

Regulatory Flexibility Act (RFA)

The Chief Counsel for Regulation of the Department of Commerce certified to the Chief Counsel for Advocacy of the Small Business Administration (SBA) that this proposed rule, if adopted, would not have a significant economic impact on a substantial number of small entities. The regulations proposed to be removed affect the responsibilities of the federal government only and thus would not affect small entities.

Paperwork Reduction Act

This proposed rule contains no new information collection requirements under the Paperwork Reduction Act of 1995.

List of Subjects for 15 CFR Part 28

Administrative practice and procedure, Government contracts, Grant programs, Grants administration, Loan programs, Lobbying, Penalties, Reporting and recordkeeping requirements.

Dated: January 13, 2026.
Paul Dabbar,
Deputy Secretary of Commerce.

Accordingly, for the reasons set forth above, part 28 of title 15 of the Code of Federal Regulations is proposed to be amended as follows:

PART 28—NEW RESTRICTIONS ON LOBBYING

1. Revise the authority citation for part 28 to read as follows:

Authority: Sec. 319, Pub. L. 101-121 (31 U.S.C. 1352; 5 U.S.C. 301; Sec. 4, as amended, and sec. 5, Pub. L. 101-410, 104 Stat. 890 (28 U.S.C. 2461 note); Pub. L. 104-134, 110 Stat. 1321, 28 U.S.C. 2461 note.

Subpart D—Penalties and Enforcement

§ 28.405 [Removed and Reserved]

2. Remove and reserve § 28.405.

§ 28.410 [Removed and Reserved]

3. Remove and reserve § 28.410.

Subpart F—Agency Reports

§ Subpart F [Removed and Reserved]

4. Remove and reserve subpart F, consisting of §§ 28.600 and 28.605.

[FR Doc. 2026-00687 Filed 1-14-26; 8:45 am]

BILLING CODE 3510-BW-P